DEPARTMENT OF THE TREASURY

Office of the Comptroller of the Currency

[Docket ID OCC-2013-0019]

Mutual Savings Association Advisory Committee

AGENCY: Department of the Treasury, Office of the Comptroller of the Currency.

ACTION: Notice of Federal Advisory Committee Meeting.

SUMMARY: The Office of the Comptroller of the Currency (OCC) announces a meeting of the Mutual Savings Association Advisory Committee (MSAAC).

DATES: A public meeting of the MSAAC will be held on Monday, November 18, 2013, beginning at 1:00 p.m. Central Standard Time (CST). Members of the public may submit written statements to the MSAAC. The OCC must receive written statements no later than Friday, November 8, 2013. Members of the public who plan to attend the meeting, and members of the public who require auxiliary aid, should contact the OCC by 5:00 p.m. Eastern Standard Time (EST) on Friday, November 15, 2013, to inform the OCC of their desire to attend the meeting and to provide the information that will be required to facilitate aid.

ADDRESSES: The November 18, 2013, meeting of the MSAAC will be held at the Crowne Plaza Chicago Metro, 733 West Madison, Chicago, IL 60661. Members of the public may submit written statements to MSAAC@occ.treas.gov or by mailing them in triplicate to Donna Deale, Designated Federal Official, Office of the Comptroller of the Currency, 400 7th Street SW., Washington, DC 20219. Members of the public who plan to attend the meeting should contact the OCC at MSAAC@occ.treas.gov or at 202-649-5420 to inform the OCC of their desire to attend the meeting so that the OCC can make the necessary arrangements for seating. Attendees should provide their full name, email address, and organization.

FOR FURTHER INFORMATION CONTACT: Donna Deale, Deputy Comptroller for Thrift Supervision, (202) 649-5420, Office of the Comptroller of the Currency, Washington, DC 20219.

SUPPLEMENTARY INFORMATION: By this notice, the OCC is announcing that the OCC MSAAC will convene a meeting on Monday, November 18, 2013, at the Crowne Plaza Chicago Metro, 733 West Madison, Chicago, IL 60661. The meeting is open to the public and will begin at 1:00 p.m. CST. The agenda includes a discussion of current topics of interest to the industry. The purpose of the meeting is for the MSAAC to advise the OCC on the regulatory changes or other steps the OCC may be able to take to ensure the continued health and viability of mutual savings associations and other issues of concern to the existing mutual savings associations.

Dated: October 22, 2013.
Thomas J. Curry,
Comptroller of the Currency.

[FR Doc. 2013-25423 Filed 10-28-13; 8:45 am]

BILLING CODE 4810-33-P